DEPARTMENT OF TRANSPORTATION

Surface Transportation Board

[STB Ex Parte No. 670]

Establishment of the Rail Energy Transportation Advisory Committee

AGENCY: Surface Transportation Board, DOT.

ACTION: Notice.

SUMMARY: The Surface Transportation Board seeks public comment on the desirability of establishing, pursuant to the Federal Advisory Committee Act (FACA), a Rail Energy Transportation Advisory Committee, to provide independent advice and policy suggestions to the Board on issues related to the reliability of rail transportation of resources critical to the nation's energy supply, including, but not necessarily limited to, the rail transportation of coal and ethanol. Specifically, the Board seeks the views of interested persons on the utility of establishing such a committee, and, if established, the appropriate scope and the optimum size and composition of such a committee so as to reflect an appropriate and balanced cross-section of interested and affected stakeholders.

DATES: Comments are due by April 16, 2007.

ADDRESSES: Comments may be submitted either via the Board's e-filing format or in the traditional paper format. Any person using e-filing should comply with the instructions at the E-FILING link on the Board's Web site, at http://www.stb.dot.gov. Any person submitting a filing in the traditional paper format should send an original and 10 copies to: Surface Transportation Board, Attn: STB Ex Parte No. 670, 395 E Street, SW., Washington, DC 20423-0001.

Copies of written comments will be available from the Board's contractor, ASAP Document Solutions (mailing address: Suite 103, 9332 Annapolis Rd., Lanham, MD 20706; e-mail address: asapdc@verizon.net; telephone number: 202-306-4004). The comments will also be available for viewing and self-copying in the Board's Public Docket Room, Room 131, and will be posted to the Board's Web site at http://www.stb.dot.gov.

FOR FURTHER INFORMATION CONTACT: Scott M. Zimmerman at 202-245-0202. [Assistance for the hearing impaired is available through the Federal Information Relay Service (FIRS) at 1-800-877-8339.]

SUPPLEMENTARY INFORMATION: The Surface Transportation Board (STB or Board) is seeking public comment on issues relating to the potential establishment of a federal advisory committee to provide independent advice and policy recommendations to the Board on issues pertaining to the reliability of rail transportation of energy resources, particularly, but not necessarily limited to, the rail transportation of coal and ethanol.

The Board, created by Congress in 1996 to take over many of the functions previously performed by the Interstate Commerce Commission, exercises broad authority over transportation by rail carriers, including regulation of railroad rates and service (49 U.S.C. 10701-10747, 11101-11124), as well as the construction, acquisition, operation, and abandonment of rail lines (49 U.S.C. 10901-10907) and railroad line sales, consolidations, mergers, and common control arrangements (49 U.S.C. 10902, 11323-11327).

The Board views the reliability of the nation's energy supply as crucial to this nation's economic and national security, and the transportation by rail of coal and other energy resources as a vital link in the energy supply chain. Particularly in the present environment of constrained rail capacity, the Board believes that an advisory committee consisting of a balanced cross-section of energy and rail industry stakeholders could serve as an important resource for providing independent, candid policy advice to the Board and for fostering open, effective communication among the affected interests on issues such as rail performance, capacity constraints, infrastructure planning and development, and effective coordination among suppliers, carriers, and users of energy resources.

The Board seeks input from interested persons on a number of issues, including: (1) What are the views of rail and energy industry stakeholders as to the potential utility of such a committee? (2) What would be the appropriate scope of such a committee's mandate—i.e., should it be limited to issues involving transportation of coal and ethanol, or constituted more broadly to include, for example, the biofuel industry and/or others? How would the scope of the committee's mandate affect its utility? (3) Consistent with one's views on the answers to the previous questions, what would be the optimum size of such a committee, and how should the committee's membership be allocated among various stakeholder groups to achieve a fairly balanced “cross section of those directly affected, interested, and qualified,” as required under the Federal Advisory Committee Act (FACA)?¹

¹ See 41 CFR 102-3.60(b)(3).

The Board is not, by this notice, establishing such a committee. Rather, it seeks from interested persons input that would assist the Board at this preliminary stage in developing a proposed charter for such an advisory committee, in consultation with the General Services Administration's Committee Management Secretariat, as provided under FACA.²

² See 41 CFR 102-3.60(a).

This action will not significantly affect either the quality of the human environment or the conservation of energy resources.

Authority: 49 U.S.C. 721, 49 U.S.C. 11101; 49 U.S.C. 11121.

Decided: March 9, 2007.
By the Board, Chairman Nottingham, Vice Chairman Buttrey, and Commissioner Mulvey.
Vernon A. Williams,
Secretary.

[FR Doc. E7-4769 Filed 3-14-07; 8:45 am]

BILLING CODE 4915-01-P